DEPARTMENT OF COMMERCE

International Trade Administration

[A-570-965]

Drill Pipe From the People's Republic of China: Amendment to Initiation of Antidumping Duty Investigation

DATES: Effective Date: February 18, 2010.

SUMMARY: The Department of Commerce (“Department”) is currently conducting an antidumping duty investigation of drill pipe from the People's Republic of China (“PRC”). The period of investigation (“POI”) is April 1, 2009, through September 30, 2009. We are limiting the number of quantity and value questionnaires that will be sent directly to exporters and producers and extending the deadline for parties to submit a response to the quantity and value questionnaire.

FOR FURTHER INFORMATION CONTACT: Toni Dach or Bobby Wong, AD/CVD Operations Office 9, (202) 482-1655 or (202) 482-0409, respectively; Import Administration, International Trade Administration, U.S. Department of Commerce, 14th Street and Constitution Avenue, NW., Washington, DC 20230.

BACKGROUND

On January 28, 2010, the Department published a notice of initiation of an antidumping duty investigation of drill pipe from the PRC. See Drill Pipe from the People's Republic of China: Initiation of Antidumping Duty Investigations, 75 FR 4531 (January 28, 2010) (“Initiation”).

SUPPLEMENTARY INFORMATION: In the Initiation, the Department stated that it intended to release quantity and value questionnaires to those PRC companies known to be exporters and producers of subject merchandise identified with complete contact information in the Petition by the Petitioners.¹ See “Petitions for the Imposition of Antidumping and Countervailing Duties: Drill Pipe from the People's Republic of China,” dated December 31, 2009 (“Petition”), at Exhibit I-7; see also “Petitions for the Imposition of Antidumping and Countervailing Duties: Response to the Department's Letter of January 14, 2010,” dated January 15, 2010, at Exhibit 4.

¹ VAM Drilling USA, Inc., Texas Steel Conversion, Inc., Rotary Drilling Tools, TMK IPSCO, and the United Steel, Paper and Forestry, Rubber, Manufacturing, Energy, Allied Industrial and Service Workers International Union, AFL-CIO-CLC, collectively, the “Petitioners.”

Petitioners identified 77 producers and exporters of drill pipe from the PRC. Subsequent to the Initiation, after considering the large number of producers and exporters of drill pipe from the PRC identified by Petitioners, and considering the resources that must be utilized by the Department to mail quantity and value questionnaires to all 77 identified producers and exporters—including entering each address in a shipping handler's Web site, researching companies' addresses to ensure correctness, organizing mailings, and following up on potentially undeliverable mailings—the Department has thus determined that we do not have sufficient administrative resources to mail quantity and value questionnaires to all 77 identified producers and exporters. Therefore, the Department has determined to limit the number of quantity and value questionnaires it will send out to exporters and producers based on U.S. Customs and Border Protection (“CBP”) data for U.S. imports under the Harmonized Tariff Schedule of the United States (“HTSUS”) numbers 7304.22.0030, 7304.22.0045, 7304.22.0060, 7304.23.3000, 7304.23.6030, 7304.23.6045, 7304.23.6060 and 8431.43.8040. These are the same HTSUS numbers used by Petitioner to demonstrate that dumping occurred during the POI, and closely match the subject merchandise. See Petition at 13-17. The Department will review the CBP data and comments from parties on the CBP data to determine how many quantity and value questionnaires we will mail to producers and exporters of drill pipe from the PRC.

Moreover, although the Department is limiting the number of quantity and value questionnaires it will send out, exporters and producers of drill pipe that do not receive quantity and value questionnaires that intend to submit a response can obtain a copy from the Import Administration Web site at http://ia.ita.doc.gov/ia-highlights-and-news.html. Accordingly, the Department is extending the deadline to submit responses to the quantity and value questionnaires from February 11, 2010, to March 2, 2010.

This notice is issued and published in accordance with section 777(i) of the Tariff Act of 1930, as amended.

Dated: February 4, 2010.
Ronald K. Lorentzen,
Deputy Assistant Secretary for Import Administration.

[FR Doc. 2010-3118 Filed 2-17-10; 8:45 am]

BILLING CODE 3510-DS-P